DEPARTMENT OF TRANSPORTATION

Coast Guard

[USCG 2000-8032]

Collection of Information Under Review by Office of Management and Budget (OMB): OMB Control Numbers 2115-0617 and 2115-0016

AGENCY: Coast Guard, DOT.

ACTION: Request for comments.

SUMMARY: In compliance with the Paperwork Reduction Act of 1995, the Coast Guard intends to seek the approval of OMB for the renewal of two Information Collection Requests (ICRs). The ICRs comprise (1) Direct Users' Fees for Inspection or Examination of U.S. and Foreign Commercial Vessels, and (2) Characteristics of Liquid Chemicals Proposed for Movement in Bulk by Water. Before submitting the ICRs to OMB, the Coast Guard is requesting comments on the items described below.

DATES: Comments must reach the Coast Guard on or before December 5, 2000.

ADDRESSES: You may mail comments to the Docket Management System (DMS) [USCG 2000-8032], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these request. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; Dorothy Beard, Chief, Documentary Services Division, U.S. Department of Transportation, 202-366-9330, for questions on the docket.

Request for Comments

The Coast Guard encourages interested persons to submit written comments. Persons submitting comments should include their names and addresses, identify this document [USCG 2000-8032], and give the reason for the comments. Please submit all comments and attachments in an unbound format no larger than 8½ by 11 inches, suitable for copying and electronic filing. Persons wanting acknowledgment of receipt of comments should enclose stamped, self-addressed postcards or envelopes.

Information Collection Request

1. Title: Direct Users' Fees for Inspection or Examination of U.S. and Foreign Commercial Vessels.

OMB Control Number: 2115-0617.

Summary: This collection requires the submission of identifying information such as vessels' names and identification numbers. A written request to the Coast Guard is necessary.

Need: The Omnibus Reconciliation Act of 1990, which amended 46 U.S.C. 2110, requires the Coast Guard to collect users' fees from inspected vessels. To properly collect and manage these fees, the Coast Guard must have current information on identification. This collection helps to ensure that we collect and manage these fees efficiently.

Respondents: Owners of vessels.

Frequency: Annually.

Burden Estimate: The estimated burden is 4,648 hours annually.

2. Title: Characteristics of Liquid Chemicals Proposed for Movement in Bulk by Water.

OMB No. 2115-0016.

Summary: The Coast Guard requires manufacturers of new chemicals to submit data on the chemicals. From these data, the Coast Guard determines the appropriate precautions to take.

Need: Under 46 CFR parts 30 to 40, 151, 153, and 154, the Coast Guard regulates the transportation of hazardous materials. Because of its nature, the chemical industry is always producing new chemicals, which it must ship. Each of these has unique characteristics that entail special attention to its mode of shipment.

Respondents: Manufacturers of chemicals.

Frequency: On occasion.

Burden Estimate: The estimated burden is 129 hours annually.

Dated: September 27, 2000.
V.S. Crea,
Director of Information and Technology.

[FR Doc. 00-25754 Filed 10-5-00; 8:45 am]

BILLING CODE 4910-15-U